DEPARTMENT OF TRANSPORTATION

Federal Aviation Administration

[Summary Notice No. 2022-21]

Petition for Exemption; Summary of Petition Received; Wiggins Airways, Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before April 21, 2022.

ADDRESSES: Send comments identified by docket number FAA-2021-0707 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Sean O'Tormey at 202-267-4044, Office of Rulemaking, Federal Aviation Administration, 800 Independence Avenue SW, Washington, DC 20591.

This notice is published pursuant to 14 CFR 11.85.

Issued in Washington, DC.
Timothy R. Adams,
Deputy Executive Director, Office of Rulemaking.

Petition for Exemption

Docket No.: FAA-2021-0707.

Petitioner: Wiggins Airways, Inc.

Section of 14 CFR Affected: § 135.243(c)(2).

Description of Relief Sought: Petitioner Wiggins Airways, Inc. seeks relief from the pilot experience requirements of 14 CFR 135.243(c)(2). For all-cargo operations in its fleet of Cessna 208 Caravans (C-208) operations with a maximum certificated takeoff weight less than 12,500 lbs. and fixed tricycle landing gear, Wiggins Airways seeks relief from § 135.243(c)(2) to allow a pilot to serve as pilot in command who has a minimum of 800 hours of flight time as a pilot to include at least 500 hours in airplanes and cross country flight time of 400 hours. For all-cargo operations in other fleet types, consisting of twin-engine land turboprop airplanes, limited to types with a maximum certificated takeoff weight not to exceed 12,500 pounds, and not requiring the pilot in command to possess a type rating, Wiggins Airways seeks relief from § 135.243(c)(2) to allow a pilot to serve as pilot in command who has a minimum of 1000 hours of flight time as a pilot to include at least 500 hours in airplanes.

[FR Doc. 2022-06839 Filed 3-31-22; 8:45 am]

BILLING CODE 4910-13-P